DEPARTMENT OF HEALTH AND HUMAN SERVICES

Substance Abuse and Mental Health Services Administration

Fiscal Year (FY) 2008 Funding Opportunity

AGENCY: Substance Abuse and Mental Health Services Administration, HHS.

ACTION: Notice of intent to award a Single Source Grant to the American Society of Addiction Medicine (ASAM).

SUMMARY: This notice is to inform the public that the Substance Abuse and Mental Health Services Administration (SAMHSA) intends to award approximately $500,000 (total costs) per year for up to three years to the American Society of Addiction Medicine (ASAM). This is not a formal request for applications. Assistance will be provided only to the American Society of Addiction Medicine (ASAM) based on the receipt of a satisfactory application that is approved by an independent review group.

Funding Opportunity Title: TI-08-014.

Catalog of Federal Domestic Assistance (CFDA) Number: 93.243.

Authority: Section 509 of the Public Health Service Act, as amended.

Justification: Only the American Society of Addiction Medicine (ASAM) is eligible to apply. The Substance Abuse and Mental Health Services Administration (SAMHSA) is seeking to award a single source grant to the American Society of Addiction Medicine (ASAM) to establish a national mentoring network offering support (clinical updates, evidence-based outcomes and training) free of charge to physicians and other medical professionals in the appropriate use of methadone for the treatment of chronic pain and opioid addiction. SAMHSA is responsible for certifying over 1,000 Opioid Treatment Programs (OTPs) that use methadone and buprenorphine in the treatment of opioid addiction. This initiative will help address the nation's rise in methadone-associated deaths that has been spurred by misuse/abuse and fatal drug interactions involving methadone.

According to the National Center for Health Statistics (NCHS), methadone poisoning deaths nationwide increased 390% from 786 deaths in 1999 to 3,849 deaths in 2004, and on going data indicate that the number of deaths in many states continued to increase in 2005 and 2006. Thus, prompt and direct implementation of this cooperative agreement is necessary to help ensure public health and safety.

To address this healthcare crisis in a timely manner, eligibility for the cooperative agreement is limited to ASAM to establish a national mentoring network and to carry out the dissemination of information and education as it relates to methadone use in the treatment of opioid addiction and chronic pain. ASAM presently provides a parallel service under a SAMHSA cooperative agreement to operate a Physician Clinical Support System (PCSS) to assist physicians with issues related to office-based treatment of opioid dependence with buprenorphine. As a result, ASAM is in the unique position to have the infrastructure and capacity in place to expeditiously meet the specific and unique needs outlined in this announcement. In addition, ASAM has demonstrated in the past (through the PCSS project) the capability to implement and achieve the goals of this program.

FOR FURTHER INFORMATION CONTACT: Shelly Hara, Substance Abuse and Mental Health Services Administration, 1 Choke Cherry Road, Room 8-1081, Rockville, MD 20857; telephone: (240) 276-2321; E-mail: shelly.hara@samhsa.hhs.gov.

Toian Vaughn,
SAMHSA Committee Management Officer.

[FR Doc. E8-6084 Filed 3-25-08; 8:45 am]

BILLING CODE 4162-20-P